DEPARTMENT OF EDUCATION

[CFDA Nos. 84.336B and 84.336D]

Office of Postsecondary Education; Teacher Quality Enhancement Grants Program—Partnership Grants; Notice Inviting Applications for New Awards for Fiscal Year (FY) 2003

Purpose of Program: To provide grants to promote improvements in the quality of new teachers, with the ultimate goal of increasing student achievement in the nation's K-12 classrooms. Partnership grants are designed to promote significant improvements in teacher education by strengthening the vital role of K-12 educators in the design and implementation of effective teacher education programs, and by increasing collaboration among these educators and institutions of higher education, and departments of arts and sciences.

Eligible Applicants: Partnerships which include, at a minimum:

1. An institution of higher education with an eligible teacher preparation program;

2. A school of arts and sciences; and

3. A high-need local educational agency (LEA).

A partnership may include additional entities, as defined in the Higher Education Act of 1965, as amended (HEA), title II, part A, section 203(b). Terms 2 and 3 are defined in section 201 of the HEA and in the application package.

Note: A partnership that received a previous grant under this program is not eligible for a FY 2003 grant.

Applications Available: April 30, 2003.

Deadline for Transmittal of Applications: June 2, 2003, for pre-applications; August 8, 2003, for full applications.

Note: The Department will invite full applications from those partnerships whose pre-applications ranked highly enough to be competitive at the full application stage. Only those partnerships who are invited to submit a full application will be eligible to receive a grant award.

Deadline for Intergovernmental Review: August 4, 2003.

Available Funds: $4,234,000.

Estimated Range of Awards: $750,000-$1,250,000 per year.

Estimated Average Size of Awards: $1.058 million per year.

Estimated Number of Awards: 4.

Note: The Department is not bound by any estimates in this notice.

Project Period: Up to 60 months.

Page Limit: Pre-applications: The application narrative is where you, the applicant, address the selection criteria reviewers use to evaluate your application.

If you are submitting a pre-application for a Partnership grant, you must limit your narrative to the equivalent of no more than 10 pages and your estimated budget information to the equivalent of no more than three pages.

For the pre-application narrative and budget information the following standards apply:

• A “page” is 8.5″ x 11″, on one side only, with 1″ margins at the top, bottom, and both sides.

• Double space (no more than three lines per vertical inch) all text, including titles, headings, quotations, references, and captions.

• Use a font that is either 12-point or larger or no smaller than 10 pitch (characters per inch).

• For tables, charts, or graphs also use a font that is either 12-point or larger or no smaller than 10 pitch.

Our reviewers will not read any of the specified sections of your application that—

• Exceed the page limit if you apply these standards; or

• Exceed the equivalent of the page limit if you apply other standards.

Full Applications: You must limit your narrative to the equivalent of no more than 50 pages. In addition, you must limit your accompanying work plan to the equivalent of no more than 10 pages, your budget narrative to the equivalent of no more than 10 pages, and your evaluation plan to the equivalent of no more than 5 pages.

For the full application narrative, budget narrative, work plan, and evaluation plan the following standards apply:

• A “page” is 8.5″ x 11″, on one side only, with 1″ margins at the top, bottom, and both sides.

• Double space (no more than three lines per vertical inch) all text, including titles, headings, quotations, references, and captions.

• Use a font that is either 12-point or larger or no smaller than 10 pitch (characters per inch).

• For tables, charts, or graphs also use a font that is either 12-point or larger or no smaller than 10 pitch.

Our reviewers will not read any of the specified sections of your application that—

• Exceed the page limit if you apply these standards; or

• Exceed the equivalent of the page limit if you apply other standards.

Applicable Regulations: (a) The Education Department General Administrative Regulations (EDGAR) in 34 CFR parts 74, 75, 77, 79, 80, 82, 85, 86, 97, 98 and 99. (b) The regulations for this program in 34 CFR part 611.

Priority: This competition focuses on projects designed to meet the priority in the regulations for this program (34 CFR 611.25).

The Secretary provides a competitive preference on the basis of how well the project includes a significant role for private business in the design and implementation of the project.

Under 34 CFR 75.105(c)(2)(i) we award up to an additional 10 points to an application, depending on how well the application meets this priority.

Special Funding Considerations: The program regulations (34 CFR part 611.3(c)) provide that when two or more applicants are ranked equally for the last available award, the Secretary selects the applicant whose activities will focus (or have most impact) on LEAs and schools located in one (or more) of the Nation's Empowerment Zones and Enterprise Communities.

For Applications and Further Information Contact: Luretha Kelley, Teacher Quality Program, Office of Postsecondary Education, U.S. Department of Education, 1990 K Street, NW., Room 7101, Washington, DC 20006-8525. Telephone: (202) 502-7878, Fax: (202) 502-7864 or via Internet: Luretha.Kelley@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have the Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1021 et seq.

Dated: April 15, 2003.
Sally L. Stroup,
Assistant Secretary, Office of Postsecondary Education.

[FR Doc. 03-9709 Filed 4-18-03; 8:45 am]

BILLING CODE 4000-01-P